ENVIRONMENTAL PROTECTION AGENCY

[FRL-7566-1]

Meeting of the National Drinking Water Advisory Council; Notice of Public Meeting

AGENCY: Environmental Protection Agency.

ACTION: Notice of meeting.

SUMMARY: Under section 10(a)(2) of Pub. L. 92-423, “The Federal Advisory Committee Act,” notice is hereby given of a meeting of the National Drinking Water Advisory Council (NDWAC), established under the Safe Drinking Water Act, as amended (42 U.S.C. 300f et seq.). The Council will hear presentations and have discussions on topics important to the Environmental Protection Agency's (EPA's) national drinking water program, including, but not limited to: An overview of EPA research activities; status reports from NDWAC's work groups on Affordability and the Contaminant Candidate List; an update on security, regulatory, and implementation activities; and an update on drinking water data quality.

DATES: The Council meeting will be held on November 19, 2003, from 8:30 a.m. until 5:30 p.m. and November 20, 2003, from 8:30 a.m. until 1 p.m., eastern standard time.

ADDRESSES: The meeting will be held at The Kingsgate Marriott Conference Hotel at the University of Cincinnati, located at 151 Goodman Drive, Cincinnati, Ohio 45219, and is open to the public.

FOR FURTHER INFORMATION CONTACT: Members of the public that would like to attend the meeting, present an oral statement, or submit a written statement, should contact Leslie Cronkhite, Designated Federal Officer, National Drinking Water Advisory Council, by phone at (202) 564-3878, by e-mail to cronkhite.leslie@epa.gov or by regular mail to the U.S. Environmental Protection Agency, Office of Ground Water and Drinking Water (M/C 4601M), 1200 Pennsylvania Avenue, NW., Washington, DC 20460.

SUPPLEMENTARY INFORMATION: The Council encourages the public's input and will allocate one hour during the meeting for this purpose. Oral statements will be limited to five minutes, and it is preferred that only one person present the statement on behalf of a group or organization. To ensure adequate time for public involvement, individuals or organizations interested in presenting an oral statement should notify the Council's Designated Federal Officer by telephone at (202) 564-3878, no later than October 3, 2003. Any person who wishes to file a written statement can do so before or after a Council meeting. Written statements received no later than October 3, 2003, will be distributed to all members of the Council before any final discussion or vote is completed. Any statements received after the meeting will become part of the permanent meeting file and will be forwarded to the Council members for their information.

Any person needing special accommodations at this meeting, including wheelchair access, should contact Leslie Cronkhite (see FOR FURTHER INFORMATION CONTACT section). Arrangements need to be made at least five business days before the meeting so that appropriate special accommodations can be made.

Dated: September 24, 2003.
Cynthia C. Dougherty,
Director, Office of Ground Water and Drinking Water.

[FR Doc. 03-24778 Filed 9-29-03; 8:45 am]

BILLING CODE 6560-50-P